DEPARTMENT OF TRANSPORTATION

Federal Aviation Administration

14 CFR Part 39

[Docket No. FAA-2021-0268; Project Identifier MCAI-2020-01382-T; Amendment 39-21505; AD 2021-08-11]

RIN 2120-AA64

Airworthiness Directives; Bombardier, Inc., Airplanes

AGENCY: Federal Aviation Administration (FAA), DOT.

ACTION: Final rule; request for comments.

SUMMARY: The FAA is adopting a new airworthiness directive (AD) for certain Bombardier, Inc., Model BD-700-1A10 and BD-700-1A11 airplanes. This AD was prompted by reports of one or both roll control input modules (RCIMs) being incorrectly installed. This AD requires revising the existing maintenance or inspection program, as applicable, to incorporate certain aircraft maintenance manual (AMM) tasks. The FAA is issuing this AD to address the unsafe condition on these products.

DATES: This AD becomes effective April 27, 2021.

The Director of the Federal Register approved the incorporation by reference of certain publications listed in this AD as of April 27, 2021.

The FAA must receive comments on this AD by May 27, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Bombardier, Inc., 400 Côte-Vertu Road West, Dorval, Québec H4S 1Y9, Canada; telephone 514-855-5000; fax 514-855-7401; email ac.yul@aero.bombardier.com; internet https://www.bombardier.com. You may view this referenced service information at the FAA, Airworthiness Products Section, Operational Safety Branch, 2200 South 216th St., Des Moines, WA. For information on the availability of this material at the FAA, call 206-231-3195. It is also available at https://www.regulations.gov by searching for and locating Docket No. FAA-2021-0268.

Examining the AD Docket

You may examine the AD docket at https://www.regulations.gov by searching for and locating Docket No. FAA-2021-0268; or in person at the Docket Operations office between 9 a.m. and 5 p.m., Monday through Friday, except Federal holidays. The AD docket contains this AD, any comments received, and other information. The street address for the Docket Operations office is listed above.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Background

Transport Canada Civil Aviation (TCCA), which is the aviation authority for Canada, has issued TCCA AD CF-2020-35, dated October 7, 2020 (referred to after this as the Mandatory Continuing Airworthiness Information, or the MCAI), to correct an unsafe condition for certain Bombardier, Inc., Model BD-700-1A10 and BD-700-1A11 airplanes. You may examine the MCAI at https://www.regulations.gov by searching for and locating Docket No. FAA-2021-0268.

This AD was prompted by reports of one or both RCIMs being incorrectly installed. An investigation determined that it is physically possible for an RCIM to be installed and zeroed at 180 degrees from its intended orientation. One in-service report involved a near-accident with damage incurred on the airplane at landing. The FAA is issuing this AD to prevent incorrect installation of one or both RCIMs, which results in a misrigging condition, causing the multi-function spoilers to deploy opposite to the roll command, and could lead to loss of control of the airplane. See the MCAI for additional background information.

Related Service Information Under 1 CFR Part 51

Bombardier has issued the following service information. This service information describes procedures for properly installing and maintaining the RCIMs. These documents are distinct since they apply to different airplane configurations.

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Bombardier Global Express Aircraft Maintenance Manual, Publication No. BD-700 AMM, Revision 89, dated February 22, 2021. (For obtaining the tasks for Bombardier Global Express Aircraft Maintenance Manual, Publication No. BD-700 AMM, use Document Identification No. GL 700 AMM.)

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Bombardier Global 5000 Aircraft Maintenance Manual, Publication No. BD-700 AMM, Revision 70, dated February 22, 2021. (For obtaining the tasks for Bombardier Global 5000 Aircraft Maintenance Manual, Publication No. BD-700 AMM, use Document Identification No. GL 5000 AMM.)

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Bombardier Global 5000 Featuring Global Vision Flight Deck Aircraft Maintenance Manual, Publication No. GL 5000 GVFD AMM, Revision 37, dated February 22, 2021.

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Global 5500 Aircraft Maintenance Manual, Publication No. GL 5500 AMM, Revision 6, dated February 22, 2021.

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Bombardier Global 6000 Aircraft Maintenance Manual, Publication No. GL 6000 AMM, Revision 38, dated February 22, 2021.

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Bombardier Global 6500 Aircraft Maintenance Manual, Publication No. GL 6500 AMM, Revision 7, dated February 22, 2021.

• Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the Bombardier Global Express XRS Aircraft Maintenance Manual, Publication No. BD-700 XRS AMM, Revision 67, dated February 22, 2021. (For obtaining the tasks for Bombardier Global Express XRS Aircraft Maintenance Manual, Publication No. BD-700 XRS AMM, use Document Identification No. GL XRS AMM.)

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is issuing this AD because the FAA evaluated all pertinent information and determined the unsafe condition exists and is likely to exist or develop on other products of the same type design.

Requirements of This AD

This AD requires revising the existing maintenance or inspection program, as applicable, to incorporate certain AMM tasks.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because incorrect installation of one or both RCIMs results in a misrigging condition, causing the multi-function spoilers to deploy opposite to the roll command, and could lead to loss of control of the airplane. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Comments Invited

The FAA invites you to send any written relevant data, views, or arguments about this AD. Send your comments to an address listed under ADDRESSES. Include “Docket No. FAA-2021-0268; Project Identifier MCAI-2020-01382-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Darren Gassetto, Aerospace Engineer, Mechanical Systems and Administrative Services Section, FAA, New York ACO Branch, 1600 Stewart Avenue, Suite 410, Westbury, NY 11590; telephone 516-228-7323; fax 516-794-5531; email9-avs-nyaco-cos@faa.gov. Any commentary that the FAA receives which is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 397 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-08-11 Bombardier, Inc.: Amendment 39-21505; Docket No. FAA-2021-0268; Project Identifier MCAI-2020-01382-T.

(a) Effective Date

This airworthiness directive (AD) becomes effective April 27, 2021.

(b) Affected ADs

None.

(c) Applicability

This AD applies to Bombardier, Inc., Model BD-700-1A10 and BD-700-1A11 airplanes, certificated in any category, having serial numbers 9002 through 9998 inclusive, 60005 through 60007 inclusive, 60013, and 60015 through 60019 inclusive.

(d) Subject

Air Transport Association (ATA) of America Code 27, Flight controls.

(e) Reason

This AD was prompted by reports of one or both roll control input modules (RCIMs) being incorrectly installed. The FAA is issuing this AD to address incorrect installation of one or both RCIMs, which results in a misrigging condition, causing the multi-function spoilers to deploy opposite to the roll command, and could lead to loss of control of the airplane.

(f) Compliance

Comply with this AD within the compliance times specified, unless already done.

(g) Maintenance or Inspection Program Revision

Within 10 days after the effective date of this AD, revise the existing maintenance or inspection program, as applicable, to incorporate the information in Tasks 27-11-13-400-801, “Installation of the Roll Control Input-Module” (including Figure 401, “Roll Control Input-Module—Removal/Installation”), 27-11-13-720-801, “Functional Test of the Roll Control Input-Module,” and 27-11-13-820-801, “Adjustment of the Roll Control Input-Module,” of Subject 27-11-13, “Roll Control Input-Module,” of Chapter 27, “Flight Controls,” in Part II of the applicable document specified in paragraphs (g)(1) through (7) of this AD.

(1) Bombardier Global Express Aircraft Maintenance Manual, Publication No. BD-700 AMM, Revision 89, dated February 22, 2021.

Note 1 to paragraph (g)(1): For obtaining the tasks for Bombardier Global Express Aircraft Maintenance Manual, Publication No. BD-700 AMM, use Document Identification No. GL 700 AMM.

(2) Bombardier Global 5000 Aircraft Maintenance Manual, Publication No. BD-700 AMM, Revision 70, dated February 22, 2021.

Note 2 to paragraph (g)(2): For obtaining the tasks for Bombardier Global 5000 Aircraft Maintenance Manual, Publication No. BD-700 AMM, use Document Identification No. GL 5000 AMM.

(3) Bombardier Global 5000 Featuring Global Vision Flight Deck Aircraft Maintenance Manual, Publication No. GL 5000 GVFD AMM, Revision 37, dated February 22, 2021.

(4) Bombardier Global 5500 Aircraft Maintenance Manual, Publication No. GL 5500 AMM, Revision 6, dated February 22, 2021.

(5) Bombardier Global 6000 Aircraft Maintenance Manual, Publication No. GL 6000 AMM, Revision 38, dated February 22, 2021.

(6) Bombardier Global 6500 Aircraft Maintenance Manual, Publication No. GL 6500 AMM, Revision 7, dated February 22, 2021.

(7) Bombardier Global Express XRS Aircraft Maintenance Manual, Publication No. BD-700 XRS AMM, Revision 67, dated February 22, 2021.

Note 3 to paragraph (g)(7): For obtaining the tasks for Bombardier Global Express XRS Aircraft Maintenance Manual, Publication No. BD-700 XRS AMM, use Document Identification No. GL XRS AMM.

(h) Maintenance Prohibition

As of the effective date of this AD, no person may perform maintenance on any RCIM using a version of Task 27-11-13-400-801, “Installation of the Roll Control Input-Module” (including Figure 401, “Roll Control Input-Module—Removal/Installation”), 27-11-13-720-801, “Function Test of the Roll Control Input-Module,” or 27-11-13-820-801, “Adjustment of the Roll Control Input-Module,” dated before February 21, 2020.

(i) Credit for Previous Actions

This paragraph provides credit for the actions required by paragraph (g) of this AD, if those actions were performed before the effective date of this AD using Tasks 27-11-13-400-801, “Installation of the Roll Control Input-Module,” 27-11-13-720-801, “Functional Test of the Roll Control Input-Module,” and 27-11-13-820-801, “Adjustment of the Roll Control Input-Module,” of Subject 27-11-13, “Roll Control Input-Module,” of Chapter 27, “Flight Controls,” in Part II of the applicable service information specified in paragraphs (i)(1) through (30) of this AD.

(1) Bombardier Global Express Aircraft Maintenance Manual, Publication No. BD-700 AMM, Revision 85, dated February 21, 2020.

Note 4 to paragraph (i)(1): For obtaining the tasks for Bombardier Global Express Aircraft Maintenance Manual, Publication No. BD-700 AMM, use Document Identification No. GL 700 AMM.

(2) Bombardier Global Express Aircraft Maintenance Manual, Publication No. BD-700 AMM, Revision 86, dated May 21, 2020.

(3) Bombardier Global Express Aircraft Maintenance Manual, Publication No. BD-700 AMM, Revision 87, dated August 17, 2020.

(4) Bombardier Global Express Aircraft Maintenance Manual, Publication No. BD-700 AMM, Revision 88, dated November 11, 2020.

(5) Bombardier Global 5000 Aircraft Maintenance Manual, Publication No. BD-700 AMM, Revision 66, dated February 21, 2020.

Note 5 to paragraph (i)(5): For obtaining the tasks for Bombardier Global 5000 Aircraft Maintenance Manual, Publication No. BD-700 AMM, use Document Identification No. GL 5000 AMM.

(6) Bombardier Global 5000 Aircraft Maintenance Manual, Publication No. BD-700 AMM, Revision 67, dated May 21, 2020.

(7) Bombardier Global 5000 Aircraft Maintenance Manual, Publication No. BD-700 AMM, Revision 68, dated August 17, 2020.

(8) Bombardier Global 5000 Aircraft Maintenance Manual, Publication No. BD-700 AMM, Revision 69, dated November 11, 2020.

(9) Bombardier Global 5000 Featuring Global Vision Flight Deck Aircraft Maintenance Manual, Publication No. GL 5000 GVFD AMM, Revision 33, dated February 21, 2020.

(10) Bombardier Global 5000 Featuring Global Vision Flight Deck Aircraft Maintenance Manual, Publication No. GL 5000 GVFD AMM, Revision 34, dated May 21, 2020.

(11) Bombardier Global 5000 Featuring Global Vision Flight Deck Aircraft Maintenance Manual, Publication No. GL 5000 GVFD AMM, Revision 35, dated August 17, 2020.

(12) Bombardier Global 5000 Featuring Global Vision Flight Deck Aircraft Maintenance Manual, Publication No. GL 5000 GVFD AMM, Revision 36, dated November 11, 2020.

(13) Bombardier Global 5500 Aircraft Maintenance Manual, Publication No. GL 5500 AMM, Revision 2, dated February 21, 2020.

(14) Bombardier Global 5500 Aircraft Maintenance Manual, Publication No. GL 5500 AMM, Revision 3, dated May 21, 2020.

(15) Bombardier Global 5500 Aircraft Maintenance Manual, Publication No. GL 5500 AMM, Revision 4, dated August 17, 2020.

(16) Bombardier Global 5500 Aircraft Maintenance Manual, Publication No. GL 5500 AMM, Revision 5, dated November 11, 2020.

(17) Bombardier Global 6000 Aircraft Maintenance Manual, Publication No. GL 6000 AMM, Revision 33, dated February 21, 2020.

(18) Bombardier Global 6000 Aircraft Maintenance Manual, Publication No. GL 6000 AMM, Revision 34, dated May 21, 2020.

(19) Bombardier Global 6000 Aircraft Maintenance Manual, Publication No. GL 6000 AMM, Revision 35, dated August 17, 2020.

(20) Bombardier Global 6000 Aircraft Maintenance Manual, Publication No. GL 6000 AMM, Revision 36, dated August 26, 2020.

(21) Bombardier Global 6000 Aircraft Maintenance Manual, Publication No. GL 6000 AMM, Revision 37, dated November 11, 2020.

(22) Bombardier Global 6500 Aircraft Maintenance Manual, Publication No. GL 6500 AMM, Revision 2, dated February 21, 2020.

(23) Bombardier Global 6500 Aircraft Maintenance Manual, Publication No. GL 6500 AMM, Revision 3, dated May 21, 2020.

(24) Bombardier Global 6500 Aircraft Maintenance Manual, Publication No. GL 6500 AMM, Revision 4, dated August 17, 2020.

(25) Bombardier Global 6500 Aircraft Maintenance Manual, Publication No. GL 6500 AMM, Revision 5, dated August 26, 2020.

(26) Bombardier Global 6500 Aircraft Maintenance Manual, Publication No. GL 6500 AMM, Revision 6, dated November 11, 2020.

(27) Bombardier Global Express XRS Aircraft Maintenance Manual, Publication No. BD-700 XRS AMM, Revision 63, dated February 21, 2020.

Note 6 to paragraph (i)(27): For obtaining the tasks for Bombardier Global Express XRS Aircraft Maintenance Manual, Publication No. BD-700 XRS AMM, use Document Identification No. GL XRS AMM.

(28) Bombardier Global Express XRS Aircraft Maintenance Manual, Publication No. BD-700 XRS AMM, Revision 64, dated May 21, 2020.

(29) Bombardier Global Express XRS Aircraft Maintenance Manual, Publication No. BD-700 XRS AMM, Revision 65, dated August 17, 2020.

(30) Bombardier Global Express XRS Aircraft Maintenance Manual, Publication No. BD-700 XRS AMM, Revision 66, dated November 11, 2020.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your responsible Flight Standards Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or Bombardier, Inc.'s TCCA Design Approval Organization (DAO). If approved by the DAO, the approval must include the DAO-authorized signature.

(k) Related Information

(1) Refer to Mandatory Continuing Airworthiness Information (MCAI) TCCA AD CF-2020-35, dated October 7, 2020, for related information. This MCAI may be found in the AD docket at https://www.regulations.gov by searching for and locating Docket No. FAA-2021-0268.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(3) Service information identified in this AD that is not incorporated by reference is available at the addresses specified in paragraphs (l)(3) and (4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Global Express Aircraft Maintenance Manual, Part II, Publication No. BD-700 AMM, Revision 89, dated February 22, 2021, Chapter 27, “Flight Controls,” Subject 27-11-13, “Roll Control Input-Module”:

(A) Task 27-11-13-400-801, “Installation of the Roll Control Input-Module” (including Figure 401, “Roll Control Input-Module—Removal/Installation”);

(B) Task 27-11-13-720-801, “Functional Test of the Roll Control Input-Module”; and

(C) Task 27-11-13-820-801, “Adjustment of the Roll Control Input-Module.”

(ii) Bombardier Global 5000 Aircraft Maintenance Manual, Part II, Publication No. BD-700 AMM, Revision 70, dated February 22, 2021, Chapter 27, “Flight Controls,” Subject 27-11-13, “Roll Control Input-Module”:

(A) Task 27-11-13-400-801, “Installation of the Roll Control Input-Module” (including Figure 401, “Roll Control Input-Module—Removal/Installation”);

(B) Task 27-11-13-720-801, “Functional Test of the Roll Control Input-Module”; and

(C) Task 27-11-13-820-801, “Adjustment of the Roll Control Input-Module.”

(iii) Bombardier Global 5000 Featuring Global Vision Flight Deck Aircraft Maintenance Manual, Part II, Publication No. GL 5000 GVFD AMM, Revision 37, dated February 22, 2021, Chapter 27, “Flight Controls,” Subject 27-11-13, “Roll Control Input-Module”:

(A) Task 27-11-13-400-801, “Installation of the Roll Control Input-Module” (including Figure 401, “Roll Control Input-Module—Removal/Installation”);

(B) Task 27-11-13-720-801, “Functional Test of the Roll Control Input-Module”; and

(C) Task 27-11-13-820-801, “Adjustment of the Roll Control Input-Module.”

(iv) Bombardier Global 5500 Aircraft Maintenance Manual, Part II, Publication No. GL 5500 AMM, Revision 6, dated February 22, 2021, Chapter 27, “Flight Controls,” Subject 27-11-13, “Roll Control Input-Module”:

(A) Task 27-11-13-400-801, “Installation of the Roll Control Input-Module” (including Figure 401, “Roll Control Input-Module—Removal/Installation”);

(B) Task 27-11-13-720-801, “Functional Test of the Roll Control Input-Module”; and

(C) Task 27-11-13-820-801, “Adjustment of the Roll Control Input-Module.”

(v) Bombardier Global 6000 Aircraft Maintenance Manual, Part II, Publication No. GL 6000 AMM, Revision 38, dated February 22, 2021, Chapter 27, “Flight Controls,” Subject 27-11-13, “Roll Control Input-Module”:

(A) Task 27-11-13-400-801, “Installation of the Roll Control Input-Module” (including Figure 401, “Roll Control Input-Module—Removal/Installation”);

(B) Task 27-11-13-720-801, “Functional Test of the Roll Control Input-Module”; and

(C) Task 27-11-13-820-801, “Adjustment of the Roll Control Input-Module.”

(vi) Bombardier Global 6500 Aircraft Maintenance Manual, Part II, Publication No. GL 6500 AMM, Revision 7, dated February 22, 2021, Chapter 27, “Flight Controls,” Subject 27-11-13, “Roll Control Input-Module”:

(A) Task 27-11-13-400-801, “Installation of the Roll Control Input-Module” (including Figure 401, “Roll Control Input-Module—Removal/Installation”);

(B) Task 27-11-13-720-801, “Functional Test of the Roll Control Input-Module”; and

(C) Task 27-11-13-820-801, “Adjustment of the Roll Control Input-Module.”

(vii) Bombardier Global Express XRS Aircraft Maintenance Manual, Part II, Publication No. BD-700 XRS AMM, Revision 67, dated February 22, 2021, Chapter 27, “Flight Controls,” Subject 27-11-13, “Roll Control Input-Module”:

(A) Task 27-11-13-400-801, “Installation of the Roll Control Input-Module” (including Figure 401, “Roll Control Input-Module-Removal/Installation”);

(B) Task 27-11-13-720-801, “Functional Test of the Roll Control Input-Module”; and

(C) Task 27-11-13-820-801, “Adjustment of the Roll Control Input-Module.”

(3) For service information identified in this AD, contact Bombardier, Inc., 400 Côte-Vertu Road West, Dorval, Québec H4S 1Y9, Canada; telephone 514-855-5000; fax 514-855-7401; email ac.yul@aero.bombardier.com; internet https://www.bombardier.com.

Note 7 to paragraph (l)(3): For obtaining the tasks for Bombardier Global Express Aircraft Maintenance Manual, Publication No. BD-700 AMM, use Document Identification No. GL 700 AMM.

Note 8 to paragraph (l)(3): For obtaining the tasks for Bombardier Global 5000 Aircraft Maintenance Manual, Publication No. BD-700 AMM, use Document Identification No. GL 5000 AMM.

Note 9 to paragraph (l)(3): For obtaining the tasks for Bombardier Global Express XRS Aircraft Maintenance Manual, Publication No. BD-700 XRS AMM, use Document Identification No. GL XRS AMM.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on April 2, 2021.
Lance T. Gant,
Director, Compliance & Airworthiness Division, Aircraft Certification Service.

[FR Doc. 2021-07536 Filed 4-8-21; 11:15 am]

BILLING CODE 4910-13-P